DEPARTMENT OF THE INTERIOR

National Park Service

[NPS-PWR-PWRO-16730; PPPWLAKES1/PPMPSAS1Z.YP0000]

Final Environmental Impact Statement/Wilderness Management Plan, Lake Mead National Recreation Area, Nevada/Bureau of Land Management, Southern Nevada District

AGENCIES: National Park Service and Bureau of Land Management, Interior.

ACTION: Notice of availability.

SUMMARY: The National Park Service (NPS) and Bureau of Land Management (BLM) announce the availability of the Final Environmental Impact Statement (Final EIS) for the Wilderness Management Plan for the Jimbilnan, Pinto Valley, Black Canyon, Eldorado, Ireteba Peaks, Nellis Wash, Spirit Mountain, and Bridge Canyon Wilderness Areas at Lake Mead National Recreation Area and adjacent public lands. The jointly prepared Wilderness Management Plan describes three alternatives for consideration. Alternative A (no-action alternative) continues the current management of the wilderness areas and serves as a baseline for comparison with the other action alternatives. Alternative B (preferred alternative) generally focuses on protecting the character of the wilderness areas while providing a few more opportunities for access into several areas. Alternative C provides a higher level of access and visitor use management while still protecting the overall character of the wilderness areas. The Final EIS also analyzes the potential environmental consequences of each of the alternatives, including potential impacts to soils, vegetation, terrestrial wildlife, threatened, endangered, and special status species, natural soundscape, wilderness character, archeological resources, ethnographic resources, visitor use and experience, and public safety.

DATES: The National Park Service will execute a Record of Decision (ROD) no sooner than 30 days following Federal Register publication by the Environmental Protection Agency of its notice of filing and availability of the Final EIS.

ADDRESSES: The Final EIS is available for public inspection at http://parkplanning.nps.gov.lake, and in the office of the Superintendent, Lake Mead National Recreation Area, 601 Nevada Way, Boulder City, NV 89005; telephone (702) 293-8920.

FOR FURTHER INFORMATION CONTACT: Mr. Jim Holland, Park Planner, Lake Mead National Recreation Area, 601 Nevada Highway, Boulder City, NV 89005 (702) 293-8986.

SUPPLEMENTARY INFORMATION: The proposed Wilderness Management Plan addresses public issues and concerns, identifies goals, objectives, and decision-making guidelines for administrative actions and visitor use, and provides guidelines for managing the Jimbilnan, Pinto Valley, Black Canyon, Eldorado, Ireteba Peaks, Nellis Wash, Spirit Mountain, and Bridge Canyon wilderness areas in Nevada. These areas were designated as units of the National Wilderness Preservation System through the Clark County Conservation of Public Land and Natural Resources Act (Pub. L. 107-282) in 2002. The NPS and BLM jointly manage the Eldorado, Ireteba Peak, and the Spirit Mountain wilderness areas; the other five wilderness areas are managed by the NPS.

During April 2010, a draft wilderness management plan/environmental assessment was distributed for public review. However, due to issues subsequently raised by rock climbers and American Indian tribes, the NPS and BLM determined it would be appropriate to prepare an Environmental Impact Statement. The Notice of Intent was published in the Federal Register on February 12, 2012. The Draft EIS for the Wilderness Management Plan was published in January 2014, with a public review and comment period extending from January 17 through March 23, 2014. Public meetings were held in Henderson, NV; Boulder City, NV; and Bullhead City, AZ. Overall approximately 269 written comments were received.

The primary issues addressed in the Final EIS for the Wilderness Management Plan are as follows:

• Providing for use of Spirit Mountain by the general public while meeting tribal needs and concerns.

• Managing rock climbing in the wilderness areas, particularly placement or removal of fixed anchors for rock-climbing activities, and managing “bolt-intensive face climbs.”

• The use of climbing equipment (including climbing chalk) near sensitive cultural resources (e.g., petroglyphs and pictographs).

• Access to several of the wilderness areas, including losing vehicle access to areas listed in the plan, illegal off-road access, and motorized or climbing ascents of Spirit Mountain.

Decision Process: The Record of Decision will be executed not sooner than 30 days after release of the Final EIS. As a delegated EIS process, the official responsible for final approval of the Wilderness Management Plan is the Regional Director, Pacific West Region, NPS. Subsequently the officials responsible for implementing the approved Wilderness Management Plan are the Superintendent, Lake Mead National Recreation Area, and the BLM State Director, Nevada.

Dated: February 10, 2015.
Patricia L. Neubacher,
Acting Regional Director, Pacific West Region, National Park Service.

[FR Doc. 2015-04485 Filed 3-3-15; 8:45 am]

BILLING CODE 4312-FF-P